DEPARTMENT OF TRANSPORTATION

Federal Transit Administration

Notice of Granted Buy America Waiver

AGENCY: Federal Transit Administration (FTA), DOT.

ACTION: Notice of granted Buy America waiver.

SUMMARY: This waiver allows ticket vending machine manufacturers to install the Asahi Seiko Compact Coin Dispensing Hopper and count it as domestic for purposes of Buy America compliance. It is predicated on the non-availability of the item domestically and was granted on December 9, 2002, for the period of two years, or until such time as a domestic source for this Compact Coin dispensing Hopper becomes available, whichever occurs first. This notice shall insure that the public, particularly potential manufacturers, is aware of this waiver. FTA requests that the public notify it of any relevant changes in the domestic market.

FOR FURTHER INFORMATION CONTACT: Meghan G. Ludtke, FTA Office of Chief Counsel, Room 9316, (202) 366-1936 (telephone) or (202) 366-3809 (fax).

SUPPLEMENTARY INFORMATION: See waiver below.

Dated: January 2, 2003.
Jennifer L. Dorn,
Administrator.

Mr. Roy Hollister, General Manager, Asahi Seiko U.S.A., Inc., 6644 Paradise Road, Las Vegas, Nevada 89119

Dear Mr. Hollister: This letter responds to your correspondence of October 4, 2002, in which you request a Buy America non-availability waiver for the Model SA-595 Compact Coin Dispensing Hopper manufactured for use in ticket vending machines. The coin dispenser at issue here is a low profile, bulk coin dispensing hopper module, a device able to hold a quantity of coins in a hopper and dispense them for “change” one by one in a secure and accurate manner upon electronic command. For the reasons below, I have determined that a waiver is appropriate here.

FTA's requirements concerning domestic preference for federally funded transit projects are set forth in 49 U.S.C. 5323(j). However, Section 5323(j)(2)(B) states that those requirements shall not apply if the item or items being procured are not produced in the U.S. in sufficient and reasonably available quantities and of a satisfactory quality. The implementing regulation also provides that a waiver may be requested “for a specific item or material that is used in the production of a manufactured product.” 49 CFR 661.7(g). The regulations allow a bidder or supplier to request a waiver only if it is being sought under this section. See, 49 CFR 661.7(g) and 49 CFR 661.9(d).

You state that there are no U.S. manufacturers of this component with the same operational and dimensional characteristics. This assertion is supported by a letter from GFI Genfare, a ticket vending machine manufacturer, a potential end user of this coin hopper. FTA also posted a request for comments on this matter on our website and we received no comments from domestic manufacturers of this product.

Based on the above-referenced information, I have determined that the grounds for a “non-availability” waiver exist. Therefore, pursuant to the provisions of 49 U.S.C. 5323(j)(2)(B), a waiver is hereby granted for manufacture of the Model SA-595 Compact Coin Dispensing Hopper for a period of two years, or until such time as a domestic source for this type of unit becomes available, whichever occurs first. In order to insure that the public is aware of this waiver, particularly potential manufacturers, it will be published in the Federal Register. If you have any questions, please contact Joseph Pixley at (202) 366-1936.

Very truly yours,

Gregory B. McBride,

Deputy Chief Counsel.

[FR Doc. 03-824 Filed 1-14-03; 8:45 am]

BILLING CODE 4910-57-M